DEPARTMENT OF HEALTH AND HUMAN SERVICES

Administration For Children And Families

[CFDA Number: 93.605]

Announcement of the Award of a Noncompetitive Single Source Replacement Grant to the Larimer County (CO) Department of Human Services in Fort Collins, CO

AGENCY: Children's Bureau, ACF, HHS.

ACTION: Announcement of the award of a noncompetitive single source replacement grant to the Larimer County (CO) Department of Human Services in Fort Collins, CO.

SUMMARY: The Administration for Children and Families, Administration on Children, Youth and Families, Children's Bureau (CB) awarded a 36-month demonstration grant to the American Humane Association (AHA) on September 29, 2011. On April 27, 2012, AHA submitted a letter requesting a relinquishment, effective June 30, 2012. The Larimer County Department of Human Services, an eligible organization, submitted its letter, along with its grant application, requesting approval to complete all of the remaining grant activities from July 1, 2012, through September 29, 2014. The Larimer County Department of Human Services will continue to provide all program activities. No changes to the grant activities will occur. All existing key personnel for the grant will remain to ensure continuity in accomplishing all of the program activities, as described in the original proposal. For the remainder of the project period listed below, this organization has been awarded funds in the amount of $1,189,750 as the permanent replacement grantee.

DATES: July 1, 2012, through September 29, 2014.

FOR FURTHER INFORMATION CONTACT: Cathy Overbagh, Child Welfare Program Specialist, Division of Program Innovation, Children's Bureau, 1250 Maryland Avenue SW., Washington, DC 20024. Telephone: 202-205-7273; Email: cathy.overbagh@acf.hhs.gov.

SUPPLEMENTARY INFORMATION: The Family Connection Grant Program was established for the purpose of helping children who are in, or at risk of entering, foster care reconnect with family members through the implementation of programs of kinship navigator programs, programs using intensive family finding efforts, programs using family group decision-making meetings, and residential family treatment programs. In September 2011, the Children's Bureau awarded a cluster of 36-month demonstration grants, including the grant relinquished by AHA, to focus on using family group decision-making meetings to build protective factors for children and families.

Statutory Authority: Section 427 of the Social Security Act (42 U.S.C. Sections 620-629) as amended by the Fostering Connections to Success and Increasing Adoptions Act of 2008 (Pub. L. 110-351, Section 102(a)).

Bryan Samuels,
Commissioner, Administration on Children, Youth and Families.

[FR Doc. 2012-26349 Filed 10-25-12; 8:45 am]

BILLING CODE 4184-01-P